DEPARTMENT OF COMMERCE

International Trade Administration

[A-427-820]

Notice of Extension of Time Limit for Preliminary Results in Antidumping Duty Administrative Review: Stainless Steel Bar From France

AGENCY: Import Administration, International Trade Administration, Department of Commerce.

EFFECTIVE DATE: November 15, 2005.

FOR FURTHER INFORMATION CONTACT: David Goldberger at (202) 482-4136, or Roberto Facundus at (202) 482-3464, Import Administration, AD/CVD Operations, Office 2, International Trade Administration, U.S. Department of Commerce, 14th Street and Constitution Avenue, NW., Washington, DC, 20230.

SUPPLEMENTARY INFORMATION:

Extension of Time Limits for Preliminary Results

Pursuant to section 751(a)(3)(A) of the Tariff Act of 1930, as amended (the Act), the Department shall make a preliminary determination in an administrative review of an antidumping duty order within 245 days after the last day of the anniversary month of the date of publication of the order. The Act further provides, however, that the Department may extend that 245-day period to up to 365 days if it determines it is not practicable to complete the review within the foregoing time period.

The preliminary results of the administrative review of the antidumping duty order on stainless steel bar from France are currently scheduled to be completed on December 1, 2005. However, the Department finds that it is not practicable to complete the preliminary results in this administrative review within this time limit because additional time is needed to fully analyze the complex issues raised in the questionnaire responses and supplemental questionnaire responses submitted by the respondent.

Therefore, in accordance with section 751(a)(3)(A) of the Act, the Department is extending the time limit for completion of the preliminary results of this review by 43 days to January 13, 2006. The final results continue to be due 120 days after the publication of the preliminary results.

Dated: November 7, 2005.
Stephen J. Claeys,
Deputy Assistant Secretary for Import Administration.

[FR Doc. E5-6298 Filed 11-14-05; 8:45 am]

Billing Code: 3510-DS-S